DEPARTMENT OF LABOR

Employment and Training Administration

[NAFTA-03188]

Philips Electronics North America Corporation Philips Components Division Departments 133, 134, 136, 400, 630, 420, 240, 261, 266 And 430 Saugerties, New York; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on June 25, 1999, applicable to workers of Philips Electronics North America Corporation, Philips Components Division, Departments 133, 134, 136, 400, 630, 420, 240, 261 and 266, Saugerties, New York. The notice was published in the Federal Register on July 20, 1999 (64 FR 38922).

At the request of the State agency, the Department reviewed the certification for workers of the subject firm. New information shows that worker separations occurred at Philips Components Division, Department 430 of Philips Electronics North America Corporation, Saugerties, New York. The workers are engaged in the production of soft ferrites (“back end”—i.e. grinding, toroids and inspect and pack, and related support departments).

The intent of the Department's certification is to include all workers of Philips Electronics North America Corporation, Philips Components Division who were adversely affected by the shift in production to Mexico.

Accordingly, the Department is amending the certification to cover the workers of Philips Electronics North America Corporation, Philips Components Division, Department 430, Saugerties, New York.

The amended notice applicable to NAFTA-03188 is hereby issued as follows:

All workers of Philips Electronics North America Corporation, Philips Components Division, Departments 133, 134, 136, 400, 630, 420, 240, 261, 266 and 430, Saugerties, New York who became totally or partially separated from employment on or after May 19, 1998 through June 25, 2001 are eligible to apply for NAFTA-TAA under Section 250 of the Trade Act of 1974.

Signed at Washington, DC this 28th day of January, 2000.
Grant D. Beale,
Program Manager, Office of Trade Adjustment Assistance.

[FR Doc. 00-2498 Filed 2-3-00; 8:45 am]

BILLING CODE 4510-30-M